NUCLEAR REGULATORY COMMISSION

Public Workshop on Risk-Informed Regulation Implementation Plan (Reactor Safety Arena)

AGENCY: Nuclear Regulatory Commission.

ACTION: Notice of workshop.

SUMMARY: The Nuclear Regulatory Commission (NRC) will host a public workshop to provide an opportunity for a discussion of the NRC's Risk-Informed Regulation Implementation Plan (RIRIP). The NRC issued a notice of availability and request for public comment on the RIRIP in the Federal Register on December 21, 2000. This workshop will focus on activities associated with regulating nuclear reactors.

DATES: The workshop will be held on Thursday, March 15, 2001 from 1:30 p.m. to 4:30 p.m.

ADDRESSES: Capital Hilton Hotel, 16th and K Streets, NW., Washington, DC 20036.

FOR FURTHER INFORMATION CONTACT: Stewart Magruder, Office of Nuclear Reactor Regulation, U.S. Nuclear Regulatory Commission, Washington, DC 20555, telephone: (301) 415-3139, email: slm1@nrc.gov.

SUPPLEMENTARY INFORMATION: The NRC's 1995 policy statement on the use of probabilistic risk assessment provided the Commission's expectation on the use of risk information in its regulatory activities. The RIRIP provides guidance and describes the staff's plans for applying criteria to select regulatory requirements and practices to risk-inform, risk-informing those requirements and practices, and developing the necessary data, methods, guidance, and training. The RIRIP is also intended to explain the agency's activities, philosophy, and approach to risk-informed regulatory policy to internal and external stakeholders. The RIRIP is available on the NRC web site at http://www.nrc.gov/RES/riskinfreg.htm.

The purpose of this workshop is to discuss comments received in response to the December 21, 2000, notice in the Federal Register and to provide for an exchange of information with all stakeholders regarding the staff's efforts to risk-inform its regulatory requirements and practices. Although comments are welcome on the entire RIRIP, this workshop will focus on the implementation activities in the reactor safety arena portion of the RIRIP (Part 2, Chapter 1.)

As noted in the December 21, 2000, feedback is especially requested on the following specific questions—

1. Does the RIRIP include information activities that should not be undertaken? If so, why not?

2. Does the RIRIP omit implementation activities that should be undertaken? Describe such activities and why they should be undertaken.

3. How should the NRC measure its success in implementing risk-informed regulation?

4. Is the pace for implementing risk-informed regulation about right, or is it too fast or too slow?

5. Are there concerns about the agency's ability to maintain safety while implementing risk-informed regulation? If so, describe the concerns and, if possible, their basis.

6. How can risk-informed regulation increase public confidence?

7. Are the screening criteria clear and sufficient? If applied properly, would they result in identifying those activities amenable for transition to risk-informed regulation?

8. Will the implementation activities described in the RIRIP appropriately improve regulatory efficiency, effectiveness, and realism?

9. Other than requests such as this for written comment and a public workshop, how can stakeholder participation in risk-informed regulation be enhanced?

10. What communication activities would be desired to describe risk-informed regulation? What other interactions would be useful to provide input to, and understanding of, risk-informed regulation?

Preliminary Agenda

1:30-2

Introduction—purpose, agenda: NRC

2-3

Presentations summarizing comments on RIRIP: Various Stakeholders

3-3:15

Break

3:15-4:15

Open discussion: All

4:15-4:30

Closing Remarks/Adjourn: NRC

Dated at Rockville, Maryland, this 7th day of February 2001.
For the Nuclear Regulatory Commission.
Cynthia A. Carpenter,
Chief, Generic Issues, Environmental, Financial and Rulemaking Branch, Division of Regulatory Improvement Programs, Office of Nuclear Reactor Regulation.

[FR Doc. 01-3825 Filed 2-15-01; 8:45 am]

BILLING CODE 7590-01-P